DEPARTMENT OF JUSTICE

Office of Justice Programs

Agency Information Collection Activities: Proposed Collection; Comments Requested

ACTION: 60-Day notice for the grants management system online application: notice of information collection under review.

The Department of Justice (DOJ), Office of Justice Programs (OJP), has submitted the following information collection request to the Office of Management and Budget (OMB) for review and approval in accordance with the Paperwork Reduction Act of 1995. The proposed information collection is published to obtain comments from the public and affected agencies. Comments are encouraged and will be accepted for “sixty days” until September 7, 2004. This process is conducted in accordance with 5 CFR 1320.10.

If you have comments especially on the estimated public burden or associated response time, suggestions, or need a copy of the proposed information collection instrument with instructions or additional information, please contact Mr. Roy Blocher, Branch Chief, Systems Development Branch, Office of the Chief Information Officer, Office of Justice Programs, 810 7th Street NW., Washington, DC 20531 or by facsimile at (202) 305-2463.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection:

(1) Type of Information Collection: Extension of a currently approved collection.

(2) Title of the Form/Collection: Grant Management System Online Application

(3) Agency form number, if any, and the applicable component of the Department sponsoring the collection: None. The Office of the Chief Information Officer, Office of Justice Programs, United States Department of Justice is sponsoring the collection.

(4) Affected public who will be as or required to respond, as well as a brief abstract: Primary: State, Local, or Tribal Government; Other: Individuals or households, Business or other for-profit, Not-for-profit institutions, Farms, and Federal Government. The information is collected via the SF-424 as a means to determine the validity of a request for funding. The Grant Management System collects this information as respondents apply for funding from various solicitations posted by program offices in the agency.

(5) An estimate of the total number of respondents and the amount of time estimated for an average respondent to respond/reply: The estimated number of respondents are 4,000. The average number of respondents is based on the awards made each year, and the number of applications received, approved, and reviewed per fiscal year. The estimated amount of time that a respondent spends completing the forms is approximately 4 hours.

(6) An estimate of the total public burden (in hours) associated with the collection: The estimated total estimated annual hour burden associated with this collection is 16,000 hours.

If additional information is required contact: Brenda E. Dyer, Clearance Officer, Department of Justice, Justice Management Division, Policy and Planning Staff, Patrick Henry Building, Suite 1600, 601 D Street NW., Washington, DC 20530.

Dated: June 30, 2004.
Brenda E. Dyer,
Clearance Officer, Department of Justice.

[FR Doc. 04-15392 Filed 7-6-04; 8:45 am]

BILLING CODE 4410-18-P